DEPARTMENT OF JUSTICE

Revision to Notice of Lodging of Consent Decree Under the Comprehensive Environmental Response, Compensation, and Liability Act Published on January 8, 2002

The notice previously published on January 8, 2002, is hereby revised to provide new instructions for sending comments on the proposed Consent Decree and for obtaining copies of the proposed Decree.

In accordance with the Departmental Policy, 28 CFR 50.7, and section 122(d) of the Comprehensive Environmental Response, Compensation and Liability Act (“CERCLA”), notice is hereby given that a Consent Decree in United States v. Cytec Industries, Inc., Ford Motor Company, SPS Technologies, Inc. and TI Automotive Systems Corp., Civil Action No. 01-CV-6109, was lodged with the United States District Court for the Eastern District of Pennsylvania on December 6, 2001. This Consent Decree resolves certain claims of the United States' against Cytec Industries, Inc., Ford Motor Company, SPS Technologies, Inc., and TI Automotive Systems Corp. (“Settling Defendants”) under sections 106 and 107(a) of the Comprehensive Environmental Response, Compensation and Liability Act (“CERCLA”), 42 U.S.C. 9606 and 9607(a). The Consent Decree requires the Settling Defendants to perform remedial work at the Site consisting of all Operable Unit 2 response activities (as defined in the Decree) and to reimburse the Superfund for past response costs in the amount of $7 million and to pay future response costs for the Boarhead Farms Superfund Site located in Bridgeton Township, Pennsylvania.

The Department of Justice will accept written comments on the proposed Consent Decree for thirty (30) days from the date of publication of this revised notice. The delivery of U.S. Postal Service regular mail has been disrupted, and comments sent by U.S. Postal Service, first-class mail are not expected to be received in a timely manner. Therefore, please address comments to Assistant Attorney General, Environmental and Natural Resources Division, Department of Justice, and send: (1) c/o Office of Regional Counsel, U.S. Environmental Protection Agency, Region III, 1650 Arch Street, Philadelphia, PA 19103-2029; and/or (2) by facsimile to (202) 353-0296. Each communication must refer on its face to United States v. Cytec Industries, Inc., Ford Motor Company, SPS Technologies, Inc., and TI Automotive Systems Corp., DOJ # 90-11-2-06036/2.

Copies of the proposed Consent Decree may be examined at the Office of the United States Attorney, Eastern District of Pennsylvania, 615 Chestnut Street, Philadelphia, PA 19106 and at EPA Region III, 1650 Arch Street, Philadelphia, PA 19103. A copy of the proposed Consent Decree may be obtained by telefaxing a request to Tonia Fleetwood, Department of Justice Consent Decree Library, at (202) 616-6584; telephone confirmation (202) 514-1547. There is a charge for the copy (25 cents/page reproduction cost). When telefaxing your request for a copy, please mail a check payable to the “U.S. Treasury,” in the amount of $23.25 (for Decree without appendices) or $29.00 (for Decree with appendices) to: Consent Decree Library, U.S. Department of Justice, c/o U.S. Environmental Protection Agency, Region III, 1560 Arch Street, Philadelphia, PA 19103-2029. The check must refer to United States v. Cytec Industries, Inc., Ford Motor Company, SPS Technologies, Inc., and TI Automotive Systems Corp., DOJ No. 90-11-2-06036/2.

Robert Brook,
Assistant Chief, Environmental Enforcement Section, Environment and Natural Resources Division, U.S. Department of Justice.

[FR Doc. 02-1561 Filed 1-22-02; 8:45 am]

BILLING CODE 4410-15-M